DEPARTMENT OF COMMERCE

National Oceanic and Atmospheric Administration

50 CFR Part 660

RIN 0648-BE27

Fisheries Off West Coast States; Amendment 24 to the Pacific Coast Groundfish Fishery Management Plan

AGENCY: National Marine Fisheries Service (NMFS), National Oceanic and Atmospheric Administration (NOAA), Commerce.

ACTION: Notice of availability of proposed fishery management plan amendment; request for comments.

SUMMARY: NMFS announces that the Pacific Fishery Management Council (Council) has submitted Amendment 24 to the Pacific Coast Groundfish Fishery Management Plan (PCGFMP) for Secretarial review. Amendment 24 would modify the PCGFMP to implement default harvest control rules, make minor changes to clarify routine management measure adjustment and implementation procedures, add two rockfish species to the PCGFMP, and designate several species as Ecosystem Component Species.

DATES: Comments on Amendment 24 must be received on or before January 26, 2015.

ADDRESSES: You may submit comments on this document, identified by NOAA-NMFS-2014-0138, by any of the following methods:

• Electronic Submission: Submit all electronic public comments via the Federal e-Rulemaking Portal. Go to www.regulations.gov/#!docketDetail;D=NOAA-NMFS-2014-0138, click the “Comment Now!” icon, complete the required fields, and enter or attach your comments.

• Mail: Submit written comments to William W. Stelle, Jr., Regional Administrator, 7600 Sand Point Way, NE., Seattle, WA, 98115.

• Fax: 206-525-4736; Attn: Sarah Williams

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Information relevant to Amendment 24, which includes a draft environmental impact statement (EIS), a regulatory impact review (RIR), and an initial regulatory flexibility analysis (IRFA) are available for public review during business hours at the office of the Pacific Fishery Management Council (Council), at 7700 NE Ambassador Place, Portland, OR 97220, phone: 503-820-2280, or at www.pcouncil.org. Copies of additional reports referred to in this document may also be obtained from the Council.

FOR FURTHER INFORMATION CONTACT: Sarah Williams, phone: 206-526-4646, fax: 206-526-6736, or email: sarah.williams@noaa.gov

SUPPLEMENTARY INFORMATION:

Electronic Access

This notice is accessible via the Internet at the Office of the Federal Register Web site at https://www.federalregister.gov. Background information and documents are available at the NMFS West Coast Region Web site at http://www.westcoast.fisheries.noaa.gov/fisheries/groundfish/index.html and at the Council's Web site at http://www.pcouncil.org.

Background

The Magnuson-Stevens Act requires that each regional fishery management council submit any FMP or plan amendment it prepares to NMFS for review and approval, disapproval, or partial approval. The Magnuson-Stevens Act also requires that NMFS, upon receiving an FMP or amendment, immediately publish a notice that the FMP or amendment is available for public review and comment. NMFS will consider the public comments received during the comment period described above in determining whether to approve Amendment 24 to the PCGFMP.

Amendment 24 consists of three components: (1) Default harvest control rules; (2) a suite of minor changes, including clarification of routine management measures and adjustments to those measures, clarification to the harvest specifications decision making schedule, changes to the description of the biennial management cycle process, technical changes, updates to make the FMP consistent with SSC guidance on the FMSY proxy for elasmobranchs, and clarifications to definitions; and (3) addition of two rockfish species to the PCGFMP and the designation of EC species.

Default Harvest Control Rules, Clarifications, and Adding Species

Over the past 3 years, the Council has been examining the harvest specifications and management measures decision-making process, and related analytical requirements in an effort to simplify these processes. Several biennial harvest specifications cycles have not met their intended January 1 start date and it was thought that efficiencies could be gained by adjusting Council decision-making and the analysis undertaken each biennial cycle. Therefore, the Council undertook Amendment 24 to examine ways to streamline the Council decision-making in each biennium to implement the harvest specifications and management measures. This resulted in several changes to how the Council will address harvest specifications beginning in the 2017-2018 biennium.

The use of default harvest control rules and their addition to the FMP is intended to simplify the Council's harvest specifications process and acknowledge that the Council generally maintains the policy choices from the previous biennium to determine the annual catch limits for the next biennium. Under Amendment 24, the harvest control rules used to determine the previous biennium's harvest specifications (i.e., overfishing limits, acceptable biological catches, and annual catch limits) would automatically be applied to the best scientific information available to determine the future biennium's harvest specifications. NMFS would implement harvest specifications based on the default harvest control rules unless the Council makes a different recommendation. In addition to the use of defaults to simplify the harvest specifications process, Amendment 24 makes changes to the description of the type of management measures that may be addressed through the biennial process. Clarifying that the management measures should be: (1) Management measures to be classified as routine the first time these measures are used; (2) adjustments to current management measures that are classified as routine; and (3) new management measures, not previously analyzed. This clarifies the focus of management measures and is intended to simplify the management measures proposed through each biennial cycle.

The addition of sunset rockfish to the PCGFMP recognizes new information from the most recent stock assessment on vermillion rockfish, which shows that there are two stocks (vermillion and sunset rockfish) instead of one as previously thought. Blackspotted rockfish are being added to the PCGFMP because blackspotted/rougheye were assessed as one stock and a sorting requirement is proposed for blackspotted/rougheye rockfish through the 2015-2016 harvest specifications and management measures proposed rule.

Designation of Ecosystem Component Species

Finally, Amendment 24 designates several species and species groups as Ecosystem Component (EC) species. The concept of EC species was added to the PCGFMP under Amendment 23, which revised the PCGFMP to comply with the revised MSA National Standard 1 Guidelines. However, no species were designated as EC species at that time. Generally, EC species should be a non-target stock, not be subject to overfishing or determined to be overfished or approaching an overfished condition, and not likely to become so in the absence of management measures; and not generally retained for sale or personal use. Amendment 24 proposes to designate the following species, which were already in the PCGFMP, as EC species: big skate, California skate, Pacific grenadier, soupfin shark, spotted ratfish, and finescale codling. Additionally, the following species or species groups are proposed to be added to the PCGFMP as EC species: Aleutian skate, Bering/sandpaper skate, roughtail/black skate, all other skates, giant grenadier, and all other grenadiers. EC species are not considered “in the fishery”, and do not require establishment of harvest specifications (e.g. OFLs, ABCs and ACLs).

Public Comments

NMFS welcomes comments on the proposed FMP amendment through the end of the comment period. A proposed rule to implement Amendment 24 has been submitted for Secretarial review and approval. NMFS expects to publish and request public review and comment on proposed regulations to implement Amendment 24, along with the groundfish specifications and management measures for 2015 and 2016, in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: November 21, 2014.
Emily H. Menashes,
Acting Director, Office of Sustainable Fisheries, National Marine Fisheries Service.

[FR Doc. 2014-28034 Filed 11-25-14; 8:45 am]

BILLING CODE 3510-22-P